DEPARTMENT OF THE INTERIOR

Bureau of Land Management

[LLNML00000 L16100000.DP0000]

Notice of Availability of the Prehistoric Trackways National Monument Draft Resource Management Plan and Draft Environmental Impact Statement, New Mexico

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) and Draft Environmental Impact Statement (EIS) for the Prehistoric Trackways National Monument (Monument), and by this notice is announcing the opening of the comment period.

DATES: To ensure that comments will be considered, the BLM must receive written comments on the Draft RMP/EIS within 90 days following the date the Environmental Protection Agency publishes this notice of the Draft RMP/EIS in the Federal Register. The BLM will announce future meetings or hearings and any other public participation activities at least 15 days in advance through public notices, media releases, and/or mailings.

ADDRESSES: You may submit comments related to the Monument's Draft RMP/EIS by any of the following methods:

• Email: BLM_NM_LCDO_Comments@blm.gov.

• Fax: 575-525-4412; Attention: Lori Allen.

• Mail: BLM Las Cruces District Office, Attention: Lori Allen, Prehistoric Trackways Project Lead, 1800 Marquess Street, Las Cruces, NM 88005.

Copies of the Monument's Draft RMP/EIS are available at the Las Cruces District Office at the above address or online at: http://www.blm.gov/nm/st/en/fo/Las_Cruces_District_Office/trackways_rmp.html.

FOR FURTHER INFORMATION CONTACT: Lori Allen, Prehistoric Trackways Project Lead, telephone 575-525-4454; address 1800 Marquess Street, Las Cruces, NM 88005; email ldallen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Congress created the Monument with the passage of the Omnibus Public Land Management Act of 2009 (Pub. L. 111-11) (the Act). The Monument encompasses an area of about 5,280 acres of land that contains Paleozoic-Era fossilized footprints, plants, and wood dating back about 280 million years and that is located 10 miles northwest of Las Cruces, New Mexico. The BLM subsequently included the Monument in its National Landscape Conservation System. The BLM has prepared this Draft RMP/EIS to provide management guidance for the 5,280 acres of Federal land within the Monument. The Draft RMP will provide a comprehensive management plan for the long-term protection and management of the Monument. It describes the appropriate uses and management of the Monument, consistent with the provisions of the Act, and would replace the 1993 Mimbres RMP for this specific location. The four alternatives analyzed in detail in the Draft RMP/EIS are: Alternative A (No Action Alternative), which would continue existing management decisions; Alternative B, which would emphasize resource preservation and reduce human intrusion; Alternative C (the BLM's preferred alternative), which would provide for protection of the resources while allowing compatible uses; and Alternative D, which would allow greater opportunity for public interaction and uses while following the constraints of the Act. As required by the Act, 789 acres of the Robledo Mountains Wilderness Study Area that are within the Monument and the overlapping Area of Critical Environmental Concern would not be affected by this designation. The designating Act withdraws the Monument from the following: (1) Entry, appropriation, or disposal under the public land laws; (2) Location, entry, and patent under the mining laws; and (3) Operation of the mineral leasing laws, geothermal leasing laws, and minerals materials laws. The RMP process began with a Notice of Intent published in the Federal Register on January 5, 2010 (75 FR 431). This announced a 30-day public comment period, during which the BLM held a public meeting in Las Cruces to introduce the public to the planning process and solicit comments. On September 22, 2010, the BLM held a public workshop to re-engage the public with the RMP and to verify that there were a sufficient range of alternatives.

Please note that public comments and information submitted including names, street addresses, and email addresses of persons who submit comments will be available for public review and disclosure at the above address during regular business hours (7:45 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6; 40 CFR 1506.10; 43 CFR 1610.2.

Jesse Juen,
State Director, New Mexico.

[FR Doc. 2012-17576 Filed 7-19-12; 8:45 am]

BILLING CODE 4310-VC-P